DEPARTMENT OF DEFENSE

Office of the Secretary

[Transmittal No. 19-0I]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 19-0I with attached Policy Justification.

Dated: September 20, 2019.
Aaron T. Siegel,
Alternate OSD Federal Register Liaison Officer, Department of Defense.

BILLING CODE 5001-06-P

BILLING CODE 5001-06-C

Transmittal No. 19-0I

REPORT OF ENHANCEMENT OR UPGRADE OF SENSITIVITY OF TECHNOLOGY OR CAPABILITY (SEC. 36(B)(5)(C), AECA)

(i) Purchaser: Taipei Economic and Cultural Representative Office (TECRO)

(ii) Sec. 36(b)(1), AECA Transmittal No.: 15-74

Date: December 16, 2015

Military Department: Army

(iii) Description: On December 16, 2015, Congress was notified by Congressional certification transmittal number 15-74, of the possible sale under Section 36(b)(1) of the Arms Export Control Act of two-hundred and eight (208) Javelin Guided Missiles; U.S. Government and contractor technical assistance, above the line transportation costs, and other related elements of logistics and program support.. The estimated total cost was $57 million. Major Defense Equipment (MDE) constituted $50 million of this total.

This transmittal notifies the inclusion of the following MDE items: four hundred nine (409) FGM-148E Javelin Missiles; and forty-six (46) Javelin Command Launch Units (CLUs). Also included are Basic Skill Trainers (BST); U.S. Government and contractor technical assistance; training; support; transportation; and other related elements of logistics and program support. These inclusions will increase the MDE value by $105 million and the non-MDE value by $24 million, resulting in a new MDE cost of $155 million and new total case value of $186 million.

(iv) Significance: This notification will allow the recipient to improve its security and defensive capability.

(v) Justification: This proposed sale serves U.S. national, economic, and security interests by supporting the recipient's continuing efforts to modernize its armed forces and enhance its defensive capability. The proposed sale will help improve the security of the recipient and assist in maintaining political stability, military balance, and economic progress in the region.

(vi) Sensitivity of Technology: The statement contained in the original AECA 36(b)(1) transmittal applies to the MDE items reported here.

(vii) Date Report Delivered to Congress: July 8, 2019

[FR Doc. 2019-20824 Filed 9-24-19; 8:45 am]

BILLING CODE 5001-06-P